DEPARTMENT OF THE TREASURY

Internal Revenue Service

26 CFR Part 1

[TD 9891]

RIN 1545-BM95

Transfers of Certain Property by U.S. Persons to Partnerships With Related Foreign Partners; Correction

AGENCY: Internal Revenue Service (IRS), Treasury.

ACTION: Correcting amendment.

SUMMARY: This document contains a correction to final regulations (T.D. 9891) that were published in the Federal Register on Thursday, January 23, 2020. Treasury Decision 9891 contains final regulations that provide guidance applicable to transfers of appreciated property by U.S. persons to partnerships with foreign partners related to the transferor.

DATES:

Effective date: These regulations are effective February 18, 2020 and applicable January 23, 2020.

Applicability dates: For dates of applicability, see § 1.721(c)-6.

FOR FURTHER INFORMATION CONTACT: Chadwick Rowland, (202) 317-6937 (not a toll-free number).

SUPPLEMENTARY INFORMATION:

Background

The final regulations (TD 9891) that are the subject of this correction are issued under section 721 of the Internal Revenue Code.

Need for Correction

As published, January 23, 2020 (85 FR 3833), the final regulations (TD 9891) contain an error that needs to be corrected.

List of Subjects in 26 CFR Part 1

Income taxes, reporting and recordkeeping requirements.

Correction of Publication

Accordingly, 26 CFR part 1 is corrected by making the following corrected amendment:

Paragraph 1. The authority citation for part 1 continues to read in part as follows:

Authority: 26 U.S.C. 7805 * * *

§ 1.721(c)-6 [Amended]

Par. 2. Section 1.721(c)-6(g)(3)(ii) is amended by removing the date “March 17, 2020” and adding the date “July 17, 2020,” in its place.

Martin V. Franks,
Chief, Publications and Regulations Branch, Legal Processing Division, Associate Chief Counsel, (Procedure and Administration).

[FR Doc. 2020-02653 Filed 2-14-20; 8:45 am]

BILLING CODE 4830-01-P